ENVIRONMENTAL PROTECTION AGENCY

40 CFR Part 180

[EPA-HQ-OPP-2011-0104; FRL-8870-4]

Atrazine, Chloroneb, Chlorpyrifos, Clofencet, Endosulfan, et al.; Proposed Tolerance Actions

AGENCY: Environmental Protection Agency (EPA).

ACTION: Proposed rule.

SUMMARY: EPA is proposing to revoke certain tolerances in follow-up to canceled uses for chlorpyrifos, chloroneb, clofencet, endosulfan, ethyl parathion, methidathion, methyl parathion, and N,N-diethyl-2-(4-methylbenzyloxy)ethylamine, modify certain tolerances for atrazine, establish tolerances for endosulfan, and make minor revisions to tolerance expressions for a few of the aforementioned pesticide ingredients. Also, EPA will be removing currently expired tolerances for methidathion, and ethyl and methyl parathion.

DATES: Comments must be received on or before July 5, 2011.

ADDRESSES: Submit your comments, identified by docket identification (ID) number EPA-HQ-OPP-2011-0104, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2011-0104. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave., NW., Washington, DC 20460-0001; telephone number: (703) 308-8037; e-mail address: nevola.joseph@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What can I do if I wish the agency to maintain a tolerance that the agency proposes to revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What action is the agency taking?

EPA is proposing to revoke certain tolerances, proposing some with expiration dates, for the insecticides chlorpyrifos, endosulfan, methidathion, methyl parathion, and ethyl parathion, the fungicide chloroneb, and the plant growth regulators clofencet and N,N-diethyl-2-(4-methylbenzyloxy)ethylamine hydrochloride. Also, EPA is proposing to modify certain tolerances for the herbicide atrazine. In addition, EPA is proposing to establish new tolerances with expiration/revocation dates for the insecticide endosulfan. Moreover, in accordance with current Agency practice to describe more clearly the measurement and scope or coverage of the tolerances, including applicable metabolites and degradates, EPA is proposing minor revisions to tolerance expressions for a number of pesticide active ingredients, including the insecticides endosulfan, methidathion, and methyl parathion, the fungicide chloroneb, and the plant growth regulator clofencet. The revisions do not substantively change the tolerance or, in any way, modify the permissible level of residues permitted by the tolerance. In addition, EPA will be removing currently expired tolerances for methidathion, methyl parathion, and ethyl parathion.

EPA is proposing these tolerance actions to follow-up on canceled uses of chloroneb, chlorpyrifos, clofencet, N,N-diethyl-2-(4-methylbenzyloxy)ethylamine hydrochloride, endosulfan, ethyl parathion, methidathion, and methyl parathion, and modify certain tolerances as recommended in the atrazine Reregistration Eligibility Decision (RED) of 2006. As part of the tolerance reassessment process, EPA is required to determine whether each of the amended tolerances meets the safety standard of FFDCA. The safety finding determination of “reasonable certainty of no harm” is discussed in detail in each RED and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419; telephone number: 1-800-490-9198; fax number: 1-513-489-8695; Internet at http://www.epa.gov/ncepihom and from the National Technical Information Service (NTIS), 5285 Port Royal Rd., Springfield, VA 22161; telephone number: 1-800-553-6847 or (703) 605-6000; Internet at http://www.ntis.gov. An electronic copy is available on the Internet for the atrazine interim RED in docket EPA-HQ-OPP-2003-0072 at http://www.regulations.gov and for the atrazine final RED at http://www.epa.gov/pesticides/reregistration/status.htm.

The selection of an individual tolerance level is based on crop field residue studies designed to produce the maximum residues under the existing or proposed product label. Generally, the level selected for a tolerance is a value slightly above the maximum residue found in such studies, provided that the tolerance is safe. The evaluation of whether a tolerance is safe is a separate inquiry. EPA recommends the raising of a tolerance when data show that:

1. Lawful use (sometimes through a label change) may result in a higher residue level on the commodity.

2. The tolerance remains safe, notwithstanding increased residue level allowed under the tolerance.

In REDs, Chapter IV on “Risk management, Reregistration, and Tolerance reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure. EPA also seeks to harmonize tolerances with international standards set by the Codex Alimentarius Commission, as described in Unit III.

Explanations for proposed modifications in tolerances can be found in the RED and TRED document and in more detail in the Residue Chemistry Chapter document which supports the RED and TRED. Copies of the Residue Chemistry Chapter documents are found in the Administrative Record and an electronic copy for atrazine is available in the public docket for this proposed rule. Electronic copies are available through EPA's electronic docket and comment system, regulations.gov at http://www.regulations.gov. You may search for this proposed rule under docket ID number EPA-HQ-OPP-2011-0104, then click on that docket ID number to view its contents.

EPA has determined that the aggregate exposures and risks are not of concern for the above mentioned pesticide active ingredients based upon the data identified in the RED or TRED which lists the submitted studies that the Agency found acceptable.

EPA has found that the tolerances that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each RED or TRED. The references are available for inspection as described in this document under SUPPLEMENTARY INFORMATION.

In addition, EPA is proposing to revoke certain specific tolerances because either they are no longer needed or are associated with food uses that are no longer registered under FIFRA. Those instances where registrations were canceled were because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or legally treated domestic commodities.

Certain tolerances pertaining to the pesticides subject to this proposal have expired due to previous EPA regulation setting expiration dates. When the Agency finalizes the changes proposed in this document, EPA will also remove the expired tolerances from the Code of Federal Regulations. The amended regulatory text below reflects removal of the tolerances. The Agency is not accepting comments regarding the expired tolerances.

1. Atrazine. Based on available field trial data that showed combined atrazine residues of concern as high as 1.1 ppm in or on field corn forage harvested 60 days after treatment and product labels that show a pre-harvest interval (PHI) of 60 days for field corn forage, the Agency determined that the tolerance on corn, field, forage should be decreased from 15 to 1.5 ppm. Therefore, EPA is proposing in 40 CFR 180.220(a) to decrease the tolerance on corn, field, forage to 1.5 ppm.

Also, based on available field trial data that showed combined atrazine residues of concern as high as 0.18 ppm in or on sorghum forage harvested 60 days after a single pre-emergence 1X application and <0.1 ppm in or on sorghum forage harvested 45 days after a 0.25X pre-emergence application followed by one post-emergence 1X application (the maximum use pattern), and product labels that show PHIs of 60 and 45 days for pre-emergence and post-emergence treatment of sorghum forage, respectively, the Agency determined that the tolerances on sorghum, forage, forage and sorghum, grain forage should each be decreased from 15 to 0.25 ppm, and sorghum, grain forage revised to sorghum, grain, forage. Therefore, EPA is proposing in 40 CFR 180.220(a) to decrease the tolerance on sorghum, forage, forage to 0.25 ppm and decrease the tolerance on sorghum, grain forage to 0.25 ppm and revise it to sorghum, grain, forage.

2. Chloroneb. In the Federal Register notice of May 25, 2007 (72 FR 29315) (FRL-8121-6), EPA published a notice of receipt of requests to voluntarily cancel certain uses, including uses of chloroneb as a seed treatment on beans, cowpeas, cotton, lupine, soybeans, and sugarbeets. In the Federal Register notice of November 7, 2007 (72 FR 62847) (FRL-8154-7), EPA approved cancellation of the affected product registrations and permitted the registrant to sell and distribute existing stocks of the affected products containing chloroneb for one year after the date of the request; i.e., until February 7, 2008. Persons other than registrant are permitted to sell, distribute, and/or use existing stocks of canceled chloroneb products until they are exhausted, provided that the use complies with the EPA approved label and labeling of the affected products. In the Federal Register notice of April 16, 2008 (73 FR 20642) (FRL-8358-5), EPA published a notice of receipt of requests to voluntarily cancel certain registrations, including uses of chloroneb as a seed treatment on beans and cotton, the last uses of chloroneb as seed treatments in the United States. On October 14, 2008, EPA approved cancellation of the last seed treatment product registrations for use of chloroneb. The registrant is permitted to sell and distribute existing stocks of the affected products containing chloroneb for one year after the date of the request; i.e., until April 16, 2009. Persons other than registrant are permitted to sell, distribute, and/or use existing stocks of canceled chloroneb products until they are exhausted, provided that the use complies with the EPA approved label and labeling of the affected product.

EPA believes that existing stocks are likely to be exhausted by April 16, 2012. Therefore, EPA is proposing to revoke the tolerances for chloroneb in 40 CFR 180.257(a) on bean, dry, seed; bean, succulent; beet, sugar, roots; beet, sugar, tops; cowpea, forage; cowpea, hay; cattle, fat; cattle, meat; cattle, meat byproducts; cotton, gin byproducts; cotton, undelinted seed; goat, fat; goat, meat; goat, meat byproducts; hog, fat; hog, meat; hog, meat byproducts; horse, fat; horse, meat; horse, meat byproducts; milk; sheep, fat; sheep, meat; sheep, meat byproducts; soybean, forage; soybean, hay; and soybean, seed; each with an expiration/revocation date of April 16, 2012.

In order to describe more clearly the measurement and scope or coverage of the tolerances, EPA is proposing to revise the introductory text containing the tolerance expression in 40 CFR 180.257(a) to read as follows:

Tolerances are established for residues of the fungicide chloroneb, including its metabolites and degradates, in or on the commodities in the table in this paragraph. Compliance with the tolerance levels specified in this paragraph is to be determined by measuring only the sum of chloroneb, 1,4-dichloro-2,5-dimethoxybenzene, and its metabolite 2,5-dichloro-4-methoxyphenol (free and conjugated), calculated as the stoichiometric equivalent of chloroneb, in or on the commodity.

3. Chlorpyrifos. There are no active registrations, and there have been none, for use of chlorpyrifos in or on lettuce in the United States. EPA established in 40 CFR 180.342 the lettuce tolerance for chlorpyrifos on September 17, 2008 (73 FR 53732) (FRL-8375-2). However, while the chlorpyrifos IRED of 2001 and RED of 2006 recommended a tolerance on lettuce, noting petition 4F3132 which had been submitted on July 31, 1984, the registrant had withdrawn the petition on July 24, 2006. Therefore, the lettuce tolerance is no longer needed and should be revoked. Consequently, EPA is proposing to revoke the tolerance in 40 CFR 180.342(a)(1) on lettuce.

4. Clofencet. In accordance with current Agency practice, EPA is proposing to revise 40 CFR 180.497 by redesignating currently existing paragraph (b) as paragraph (d) for indirect or inadvertent residues, adding and reserving new paragraph (b) for tolerances with section 18 emergency exemptions, and adding and reserving new paragraph (c) for tolerances with regional registrations.

In the Federal Register of April 28, 2010 (75 FR 22404) (FRL-8822-1), EPA published a notice of receipt of requests to voluntarily cancel all pesticide registrations containing clofencet. In the Federal Register notice of July 14, 2010 (75 FR 40825) (FRL-8833-4), EPA approved cancellation of the last FIFRA product registrations for use of clofencet in the United States. The registrant is permitted to sell and distribute existing stocks of the affected products containing clofencet until July 14, 2011. Persons other than the registrant are permitted to sell, distribute, and/or use existing stocks of canceled clofencet products until they are exhausted, provided that the use complies with the EPA approved label and labeling of the affected products. However, the registrant believes that there is little or no product in the channels of trade. Therefore, EPA is proposing to revoke the tolerances in 40 CFR 180.497(a) on cattle, fat; cattle, kidney; cattle, meat; cattle, meat byproducts, except kidney; egg; goat, fat; goat, kidney; goat, meat; goat, meat byproducts, except kidney; hog, fat; hog, kidney; hog, meat; hog, meat byproducts, except kidney; horse, fat; horse, kidney; horse, meat; horse, meat byproducts, except kidney; milk; poultry, fat; poultry, meat; poultry, meat byproducts; sheep, fat; sheep, kidney; sheep, meat; sheep, meat byproducts, except kidney; wheat, forage; wheat, grain; wheat, hay; and wheat, straw; each with an expiration/revocation date of July 14, 2012, and tolerances for indirect or inadvertent residues in newly designated 40 CFR 180.497(d) on grain, cereal, forage, fodder and straw, group 16, except rice, sweet corn, wheat, and wild rice; forage; grain, cereal, forage, fodder and straw, group 16, except rice, sweet corn, wheat, and wild rice; hay; grain, cereal, forage, fodder and straw, group 16, except rice, sweet corn, wheat, and wild rice; stover; grain, cereal, forage, fodder and straw, group 16, except rice, sweet corn, wheat, and wild rice; straw; grain, cereal group 15, except rice, sweet corn, wheat, and wild rice; soybean; soybean, forage; and soybean, hay; each with an expiration/revocation date of July 14, 2012.

In order to describe more clearly the measurement and scope or coverage of the tolerances, EPA is proposing to revise the introductory text containing the tolerance expression in 40 CFR 180.497(a) to read as follows:

Tolerances are established for residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity.

Also, EPA is proposing to revise the introductory text containing the tolerance expression in newly designated 40 CFR 180.497(d) to read as follows:

Tolerances are established for indirect or inadvertent residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity when present therein as a result of the application of clofencet to the growing crops in paragraph (a) of this section.

5. N,N-Diethyl-2-(4-methylbenzyloxy)ethylamine hydrochloride. Because there have been no active registrations for N,N-diethyl-2-(4-methylbenzyloxy)ethylamine hydrochloride in the United States since 2004, the sole existing tolerance, which is on orange, sweet, is no longer needed and should be revoked. Therefore, EPA is proposing to revoke the tolerance in 40 CFR 180.558(a) on orange, sweet and remove that section in its entirety.

6. Endosulfan. There have been no active registrations for use of endosulfan in the United States for rapeseed and watercress since October 2004; sugarcane since July 2005; grapes, succulent peas, pecans, and spinach since December 2005; barley, oats, rye, and wheat since October 2007. There are no active registrations for use of endosulfan in the United States for growing tea and there may never have been one. Therefore, these tolerances are no longer needed and should be revoked. Consequently, EPA is proposing to revoke the sole tolerance in 40 CFR 180.182(a)(2) on dried tea (24 ppm in or on dried tea, reflecting less than 0.1 ppm in beverage tea), remove paragraph (a)(2) in its entirety, and redesignate 40 CFR 180.182(a)(1) as (a). In addition, EPA is proposing to revoke the tolerances in newly designated 40 CFR 180.182(a) on barley, grain; barley, straw; grape; oat, grain; oat, straw; pea, succulent; pecan; rapeseed, seed; rye, grain; rye, straw; spinach; sugarcane, cane; watercress; wheat, grain; and wheat, straw.

In a Memorandum of Agreement (MOA) between the endosulfan registrants and the Agency, made effective July 22, 2010, terms regarding registrant requests for voluntary cancellation of all existing FIFRA registrations for endosulfan were specified. In the Federal Register notice of November 10, 2010 (75 FR 69065) (FRL-8852-4), EPA approved cancellation of the last FIFRA section 24 and section 3 registrations, respectively, for use of endosulfan in the United States. The List 1 (Phase-Out Group A, which includes almond, apricot, carrots, dry beans, tart cherry, eggplant, filbert, also known as hazelnut, macadamia nut, plum, prune, sweet potato, and walnut) uses of existing stocks of the end-use products, for endosulfan, are prohibited after July 31, 2012, except for products intended for export consistent with the requirements of section 17 of FIFRA or proper disposal. (The MOA and FR notices are available electronically under docket ID number EPA-HQ-OPP-2002-0262). Therefore, EPA is proposing to revoke the tolerances for endosulfan in newly designated 40 CFR 180.182(a) on almond; almond hulls; apricot; bean; carrot, roots; cherry, tart; eggplant; hazelnut; nut, macadamia; plum; plum, prune; sweet potato, roots; and walnut; each with an expiration/revocation date of July 31, 2012.

The List 2 (Phase-Out Group B, which includes cabbage, celery (AZ only), cotton, lettuce, nectarine (non-CA), peach, and sweet cherry) uses of existing stocks of the end-use products, for endosulfan, are prohibited after July 31, 2012, except for products intended for export consistent with the requirements of section 17 of FIFRA or proper disposal. It should be noted that celery (non-AZ) and nectarine (CA only) uses are included in List 1. Therefore, EPA is proposing to revoke the tolerance for endosulfan in newly designated 40 CFR 180.182(a) on cabbage; celery; cherry, sweet; cotton, gin byproducts; cotton, undelinted seed; lettuce, head; lettuce, leaf; nectarine; and peach; each with an expiration/revocation date of July 31, 2012.

The List 3 (Phase-Out Group C, which includes pear) use of existing stocks of the end-use products, for endosulfan, are prohibited after July 31, 2013, except for products intended for export consistent with the requirements of section 17 of FIFRA or proper disposal. Therefore, EPA is proposing to revoke the tolerance for endosulfan in newly designated 40 CFR 180.182(a) on pear with an expiration/revocation date of July 31, 2013.

The List 4 (Phase-Out Group D, which includes apple, blueberry, pepper, potato, pumpkin, sweet corn, tomato, and winter squash) uses of existing stocks of the end-use products, for endosulfan, in the state of Florida are prohibited after December 31, 2014, except for products intended for export consistent with the requirements of section 17 of FIFRA or proper disposal. The List 5 (Phase-Out Group E which includes apple, blueberry, pepper, potato, pumpkin, sweet corn, tomato, and winter squash) uses of existing stocks of the end-use products, for endosulfan, in the United States (except Florida) are prohibited after July 31, 2015, except for products intended for export consistent with the requirements of section 17 of FIFRA or proper disposal. Endosulfan uses on pumpkin and winter squash (members of vegetable, cucurbit, group 9) are included in Phase-Out Groups D and E. Therefore, EPA is proposing to revoke the tolerances for endosulfan in newly designated 40 CFR 180.182(a) on apple; apple, wet pomace; blueberry; corn, sweet, forage; corn, sweet, kernel plus cob with husks removed; corn, sweet, stover; pepper; potato; tomato; and vegetable, cucurbit, group 9; and concomitantly revise 40 CFR 180.182(c) and establish tolerances on apple at 1.0 ppm; apple, wet pomace at 5.0 ppm; blueberry at 0.3 ppm; corn, sweet, forage at 12.0 ppm; corn, sweet, kernel plus cob with husks removed at 0.2 ppm; corn, sweet, stover at 14.0 ppm; pepper at 2.0 ppm; potato at 0.2 ppm; pumpkin at 1.0 ppm; squash, winter at 1.0 ppm; and tomato at 1.0 ppm in newly designated 40 CFR 180.182(c)(1) for regional tolerances for use in the state of Florida, each with an expiration date of December 31, 2014, and establish tolerances on apple at 1.0 ppm; apple, wet pomace at 5.0 ppm; blueberry at 0.3 ppm; corn, sweet, forage at 12.0 ppm; corn, sweet, kernel plus cob with husks removed at 0.2 ppm; corn, sweet, stover at 14.0 ppm; pepper at 2.0 ppm; potato at 0.2 ppm; pumpkin at 1.0 ppm; squash, winter at 1.0 ppm; and tomato at 1.0 ppm in newly designated 180.182(c)(2) for regional tolerances for use in the United States (except Florida), each with an expiration date of July 31, 2015. In addition, because EPA is proposing to revoke the tolerance on vegetable, cucurbit, group 9 at 1.0 ppm in newly designated 40 CFR 180.182(a) and (Phase-Out Group B) uses on cantaloupe, cucumber, honeydew (muskmelon), summer squash, and watermelon are allowed until July 31, 2012, EPA is also proposing to establish individual tolerances at 1.0 ppm in newly designated 40 CFR 180.182(a) for cantaloupe; cucumber; muskmelon; squash, summer; and watermelon; each with an expiration/revocation date of July, 31, 2012.

The List 6 (Phase-Out Group F, which includes certain specific vegetable crops for seed) uses of existing stocks of the end-use products, for endosulfan, are prohibited after July 31, 2016, except for products intended for export consistent with the requirements of section 17 of FIFRA or proper disposal. Therefore, uses of endosulfan in or on vegetables grown for seed, including alfalfa, broccoli, Brussels sprouts, cabbage, cauliflower, collards, kale, kohlrabi, mustard greens, radishes, rutabagas, and turnips are prohibited after July 31, 2016. Following examination of product labels, the Agency classified these endosulfan seed treatment uses as non-food (see “Endosulfan: The Health Effects Division's REVISED Human Health Risk Assessment” in public docket EPA-HQ-OPP-2002-0262), and therefore these uses do not need to be covered by a tolerance. Because there are only active registrations in the United States for use of endosulfan in or on both alfalfa and turnip grown for seed crop, EPA is proposing to revoke the tolerances in newly designated 40 CFR 180.182(a) on alfalfa, forage; alfalfa, hay; turnip, roots; and turnip, tops at the time of publication of the final rule in the Federal Register. However, (within Phase-Out Group A) foliar treatment uses of endosulfan for broccoli, Brussels sprouts, cauliflower, collards, kale, and mustard greens are allowed until July 31, 2012. Consequently, EPA is proposing to revoke the tolerances in newly designated 40 CFR 180.182(a) on broccoli; Brussels sprouts; cauliflower; collards; kale; mustard greens; and mustard, seed; each with an expiration date of July 31, 2012.

Other List 6 (Phase-Out Group F, which includes livestock ear tags, strawberry (perennial/biennial), and pineapple) uses of existing stocks of the end-use products for endosulfan are prohibited after July 31, 2016, except for products intended for export consistent with the requirements of section 17 of FIFRA or proper disposal. (It should be noted that strawberry (annual) use is included in List1). Therefore, EPA is proposing to revoke the tolerances for endosulfan in newly designated 40 CFR 180.182(a) on cattle, fat; cattle, liver; cattle, meat; cattle, meat byproducts, except liver; goat, fat; goat, liver; goat, meat; goat, meat byproducts, except liver; hog, fat; hog, liver; hog, meat; hog, meat byproducts, except liver; horse, fat; horse, liver; horse, meat; horse, meat byproducts, except liver; milk, fat; pineapple; pineapple, process residue; sheep, fat; sheep, liver; sheep, meat; sheep, meat byproducts, except liver; and strawberry; each with an expiration/revocation date of July 31, 2016.

In order to describe more clearly the measurement and scope or coverage of the tolerances, EPA is proposing to revise the introductory text containing the tolerance expression in newly designated 40 CFR 180.182(a) to read as follows:

Tolerances are established for residues of the insecticide endosulfan, including its metabolites and degradates, in or on the commodities in the table in this paragraph. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Also, EPA is proposing to revise the introductory text containing the tolerance expression in newly designated 40 CFR 180.182(c)(1) to read as follows:

Tolerances with regional registration, as defined in § 180.1(l), are established for residues of the insecticide endosulfan, including its metabolites and degradates, in or on the commodities in the table in this paragraph, when endosulfan is used in the state of Florida. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

In addition, EPA is proposing to revise the introductory text containing the tolerance expression in newly designated 40 CFR 180.182(c)(2) to read as follows:

Tolerances with regional registration, as defined in § 180.1(l), are established for residues of the insecticide endosulfan, including its metabolites and degradates, in or on the commodities in the table in this paragraph, when endosulfan is used in the United States (except Florida). Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

7. Methidathion. After the Final Work Plan was published in August 2009 as part of the registration review process for methidathion, the registrants requested to voluntarily cancel all of their methidathion product registrations. In the Federal Register of April 7, 2010 (75 FR 17735) (FRL-8819-1), EPA published a notice of receipt of requests to voluntarily cancel all pesticide registrations containing methidathion. In the Federal Register notice of June 2, 2010 (75 FR 30824) (FRL-8828-4), EPA approved cancellation of the last FIFRA product registrations for use of methidathion in the United States. After December 31, 2012, registrants are prohibited from selling or distributing existing stocks of products containing methidathion labeled for all uses. After December 31, 2014, persons other than registrants are prohibited from selling or distributing existing stocks of products containing methidathion labeled for all uses. The cancellation order of June 2, 2010 (75 FR 30824) also stated that after December 31, 2014, existing stocks of products containing methidathion labeled for all uses, already in the hands of users can be used legally until they are exhausted, provided that the use complies with the EPA approved label and labeling of the affected product. However, based on communications with the registrants since the cancellation, EPA believes that existing stocks are likely to be exhausted by December 31, 2016. Therefore, EPA is proposing to revoke the tolerances in 40 CFR 180.298(a) on almond, hulls; artichoke, globe; citrus, oil; cotton, undelinted seed; fruit, citrus, group 10, except tangerine; fruit, pome, group 11; fruit, stone, group 12; mango; nut, tree, group 14; olive; safflower, seed; sorghum, forage, forage; sorghum, grain, forage; sorghum, grain, grain; sorghum, grain, stover; sunflower, seed; and tangerine; each with an expiration/revocation date of December 31, 2016, and regional tolerances in 180.298(c) on kiwifruit; longan; starfruit; and sugar apple; each with an expiration/revocation date of December 31, 2016.

In order to describe more clearly the measurement and scope or coverage of the tolerances, EPA is proposing to revise the introductory text containing the tolerance expression in 40 CFR 180.298(a) to read as follows:

Tolerances are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

Also, EPA is proposing to revise the introductory text containing the tolerance expression in 40 CFR 180.298(c) to read as follows:

Tolerances with regional registration, as defined in § 180.1(l), are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

In addition, EPA is removing tolerances that expired in 2008 for methidathion in 40 CFR 180.298(c).

8. Methyl parathion and ethyl parathion. In March 2010, EPA and the methyl parathion registrants signed a Memorandum of Agreement (MOA) stating that all methyl parathion product registrations would be canceled as specified therein. In the Federal Register notice of April 28, 2010 (75 FR 22402) (FRL-8822-6), EPA published a notice of receipt of requests to voluntarily cancel specific methyl parathion registrations, which included the last registrations for use of methyl parathion in or on alfalfa, almonds, barley, corn, cotton, grasses, oats, onions, peas, potatoes, rapeseed, rice, rye, soybeans, sunflowers, and wheat in the United States. In the Federal Register notices of November 10, 2010 (75 FR 69073) (FRL-8851-5) and January 26, 2011 (76 FR 4692) (FRL-8856-9), EPA published notices of receipt of requests to voluntarily cancel specific methyl parathion registrations, which included the last registrations for use of methyl parathion in or on sweet potatoes and walnuts in the United States. In the Federal Register notice of July 27, 2010 (75 FR 43981) (FRL-8838-6), EPA approved the cancellations and permitted use of existing stocks of the end-use products for methyl parathion in or on alfalfa, almonds, barley, corn, cotton, grasses, oats, onions, peas, potatoes, rapeseed, rice, rye, soybeans, sunflowers, and wheat through December 31, 2013. Also, in the Federal Register notices of February 25, 2011 (76 FR 10587) (FRL-8863-4) and March 23, 2011 (76 FR 16417) (FRL-8867-8), EPA approved the cancellations and permitted use of existing stocks of the end-use products for methyl parathion in or on sweet potatoes and walnuts until exhausted, provided use is consistent with the terms of the previously approved labeling on, or that accompanied, the canceled products. In accordance with the MOA, all use of existing stocks of the end-use products for methyl parathion, including in or on sweet potatoes and walnuts, are permitted through December 31, 2013, but not thereafter. (The MOA and FR notices are available electronically under docket ID numbers EPA-HQ-OPP-2009-0332 and EPA-HQ-OPP-2009-1017). Therefore, EPA is proposing to revoke the tolerances for methyl parathion in 40 CFR 180.121(a) on alfalfa, forage; alfalfa, hay; almond; almond, hulls; barley; corn, field, forage; corn, field, grain; corn, pop, grain; corn, sweet, forage; corn, sweet, kernel plus cob with husks removed; cotton, undelinted seed; grass, forage; oat; onion; pea, field, vines; potato; rapeseed, seed; rice, grain; soybean, hay; soybean, seed; sunflower, seed; sweet potato, roots; walnut; and wheat; each with an expiration date of December 31, 2013. Also, because there have been no active registrations in the United States for use of ethyl parathion in or on rye since 1989, the interim tolerance on rye in 40 CFR 180.319 for “Parathion (O,O-diethyl-O-p-nitrophenythiophosphate) or its methyl homolog” should be separated into interim tolerances on rye for ethyl parathion and methyl parathion to allow an expiration/revocation date for methyl parathion and revocation for ethyl parathion on the date of publication of the final rule in the Federal Register. Therefore, EPA is proposing to separate the existing interim tolerance for parathion on rye in 40 CFR 180.319 into one for methyl parathion and another for ethyl parathion, revoke the newly designated interim tolerance for methyl parathion on rye with an expiration/revocation date of December 31, 2013, and revoke the newly designated interim tolerance on rye for ethyl parathion on the date of publication of the final rule in the Federal Register. Also, because all the tolerances for ethyl parathion in 40 CFR 180.122 expired in 2005, EPA will remove that section in its entirety. In addition, because there have been no active registrations for methyl parathion use on peanuts since 1998, EPA is proposing to revoke the tolerance in 40 CFR 180.121(a) on peanut on the date of publication of the final rule in the Federal Register. Moreover, EPA is removing tolerances that expired in 2009 for methyl parathion in 40 CFR 180.121(a).

In order to describe more clearly the measurement and scope or coverage of the tolerances, EPA is proposing to revise the introductory text containing the tolerance expression in 40 CFR 180.121(a) to read as follows:

Tolerances are established for residues of the insecticide methyl parathion, including its metabolites and degradates, in or on the commodities in the table in this paragraph. Compliance with the tolerance levels specified in this paragraph is to be determined by measuring only methyl parathion, O,O-dimethyl O-(4-nitrophenyl) phosphorothioate, in or on the commodity.

B. What is the agency's authority for taking this action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions for atrazine to implement the tolerance recommendations made during the reregistration and tolerance reassessment processes. As part of these processes, EPA is required to determine whether each of the amended tolerances meets the safety standard of FQPA. The safety finding determination is discussed in detail in the atrazine RED. REDs and TREDs recommend the implementation of certain tolerance actions, including modifications to reflect current use patterns, to meet safety findings, and change commodity names and groupings in accordance with new EPA policy. Printed and electronic copies of the REDs and TREDs are available as provided in Unit II.A.

REDs and TREDs contain the Agency's evaluation of the database for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When do these actions become effective?

With the exception of certain existing tolerances for chloroneb, clofencet, endosulfan, methidathion, and methyl parathion for which EPA is proposing specific expiration/revocation dates and proposed new tolerances to be established for endosulfan for which EPA is also proposing expiration/revocation dates, the Agency is proposing that these tolerance revocations, tolerance modifications, and revisions of tolerance nomenclature and tolerance expression become effective on the date of publication of the final rule in the Federal Register. With the exception of the proposed expiration/revocation of specific (existing and new) tolerances for chloroneb, clofencet, endosulfan, methidathion, and methyl parathion, the Agency believes that existing stocks of pesticide products labeled for the uses associated with the tolerances proposed for revocation have been completely exhausted and that treated commodities have cleared the channels of trade. EPA is proposing an expiration/revocation date of April 16, 2012 for all of the chloroneb tolerances proposed herein for revocation; July 14, 2012 for all of the clofencet tolerances proposed herein for revocation; various dates for the endosulfan tolerances proposed for revocation as described herein in Unit II.A.; December 31, 2016 for all of the methidathion tolerances proposed herein for revocation; and December 31, 2013 for the methyl parathion tolerances proposed herein for revocation with the exception of the tolerance on peanut. The Agency believes that these revocation dates allow users to exhaust stocks and allows sufficient time for passage of treated commodities through the channels of trade. However, with the exception of endosulfan and methyl parathion whose registrants have a Memorandum of Agreement with the Agency concerning canceled uses and agreed dates for sale, distribution, and use of existing stocks, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for atrazine, chloroneb, clofencet, N,N-diethyl-2-(4-methylbenzyloxy)ethylamine hydrochloride, ethyl parathion, or MRL on lettuce for chlorpyrifos.

The Codex has established MRLs for endosulfan in or on various commodities including melons, except watermelon at 2 mg/kg and tea, green, black at 30 mg/kg. These MRLs are different than the tolerances established for endosulfan in the United States because of differences in use patterns and/or good agricultural practices.

The Codex has established MRLs for methidathion in or on various commodities including apple at 0.5 mg/kg; cherries at 0.2 mg/kg; cottonseed at 1 mg/kg; nectarine at 0.2 mg/kg; olives at 1 mg/kg; peach at 0.2 mg/kg; pear at 1 mg/kg; and plums (including prunes) at 0.2 mg/kg. These MRLs are different than the tolerances established for methidathion in the United States because of differences in use patterns and/or good agricultural practices.

The Codex has established MRLs for methyl parathion (parathion-methyl) in or on various commodities including potato at 0.05 mg/kg. The MRL is different than the tolerance established for methyl parathion in the United States because of differences in use patterns and/or good agricultural practices.

IV. Statutory and Executive Order Reviews

In this proposed rule, EPA is proposing to establish tolerances under FFDCA section 408(e), and also modify and revoke specific tolerances established under FFDCA section 408. The Office of Management and Budget (OMB) has exempted these types of actions (e.g., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, entitled Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Pub. L. 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: April 15, 2011.
Steven Bradbury,
Director, Office of Pesticide Programs.

Therefore, it is proposed that 40 CFR chapter I be amended as follows:

PART 180—[AMENDED]

1. The authority citation for part 180 continues to read as follows:

Authority: 21 U.S.C. 321(q), 346a and 371.

2. Section 180.121 is amended by revising paragraph (a) to read as follows:

§ 180.121 Methyl parathion; tolerances for residues.

(a) General. Tolerances are established for residues of the insecticide methyl parathion, including its metabolites and degradates, in or on the commodities in the table in this paragraph. Compliance with the tolerance levels specified in this paragraph is to be determined by measuring only methyl parathion, O,O-dimethyl O-(4-nitrophenyl) phosphorothioate, in or on the commodity.

Commodity | Parts per million | Expiration/ revocation date
Alfalfa, forage | 1.25 | 12/31/13
Alfalfa, hay | 5.0 | 12/31/13
Almond | 0.1 | 12/31/13
Almond, hulls | 3.0 | 12/31/13
Barley | 1.0 | 12/31/13
Corn, field, forage | 1.0 | 12/31/13
Corn, field, grain | 1.0 | 12/31/13
Corn, pop, grain | 1.0 | 12/31/13
Corn, sweet, forage | 1.0 | 12/31/13
Corn, sweet, kernel plus cob with husks removed | 1.0 | 12/31/13
Cotton, undelinted seed | 0.75 | 12/31/13
Grass, forage | 1.0 | 12/31/13
Oat | 1.0 | 12/31/13
Onion | 1.0 | 12/31/13
Pea, field, vines | 1.0 | 12/31/13
Potato | 0.1 | 12/31/13
Rapeseed, seed | 0.2 | 12/31/13
Rice, grain | 1.0 | 12/31/13
Soybean, hay | 1.0 | 12/31/13
Soybean, seed | 0.1 | 12/31/13
Sunflower, seed | 0.2 | 12/31/13
Sweet potato, roots | 0.1 | 12/31/13
Walnut | 0.1 | 12/31/13
Wheat | 1.0 | 12/31/13

* * * * *

§ 180.122 [Removed]

3. Section 180.122 is removed.

4. Section 180.182 is amended revising paragraphs (a) and (c) to read as follows:

§ 180.182 Endosulfan; tolerances for residues.

(a) General. Tolerances are established for residues of the insecticide endosulfan, including its metabolites and degradates, in or on the commodities in the table in this paragraph. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Almond | 0.3 | 7/31/12
Almond, hulls | 1.0 | 7/31/12
Apricot | 2.0 | 7/31/12
Bean | 2.0 | 7/31/12
Broccoli | 3.0 | 7/31/12
Brussels sprouts | 2.0 | 7/31/12
Cabbage | 4.0 | 7/31/12
Cantaloupe | 1.0 | 7/31/12
Carrot, roots | 0.2 | 7/31/12
Cattle, fat | 13.0 | 7/31/16
Cattle, liver | 5.0 | 7/31/16
Cattle, meat | 2.0 | 7/31/16
Cattle, meat byproducts, except liver | 1.0 | 7/31/16
Cauliflower | 2.0 | 7/31/12
Celery | 8.0 | 7/31/12
Cherry, sweet | 2.0 | 7/31/12
Cherry, tart | 2.0 | 7/31/12
Collards | 2.0 | 7/31/12
Cotton, gin byproducts | 30.0 | 7/31/12
Cotton, undelinted seed | 1.0 | 7/31/12
Cucumber | 1.0 | 7/31/12
Eggplant | 1.0 | 7/31/12
Goat, fat | 13.0 | 7/31/16
Goat, liver | 5.0 | 7/31/16
Goat, meat | 2.0 | 7/31/16
Goat, meat byproducts, except liver | 1.0 | 7/31/16
Hazelnut | 0.2 | 7/31/12
Hog, fat | 13.0 | 7/31/16
Hog, liver | 5.0 | 7/31/16
Hog, meat | 2.0 | 7/31/16
Hog, meat byproducts, except liver | 1.0 | 7/31/16
Horse, fat | 13.0 | 7/31/16
Horse, liver | 5.0 | 7/31/16
Horse, meat | 2.0 | 7/31/16
Horse, meat byproducts, except liver | 1.0 | 7/31/16
Kale | 2.0 | 7/31/12
Lettuce, head | 11.0 | 7/31/12
Lettuce, leaf | 6.0 | 7/31/12
Milk, fat | 2.0 | 7/31/16
Muskmelon | 1.0 | 7/31/12
Mustard greens | 2.0 | 7/31/12
Mustard, seed | 0.2 | 7/31/12
Nectarine | 2.0 | 7/31/12
Nut, macadamia | 0.2 | 7/31/12
Peach | 2.0 | 7/31/12
Pear | 2.0 | 7/31/13
Pineapple | 1.0 | 7/31/16
Pineapple, process residue | 20.0 | 7/31/16
Plum | 2.0 | 7/31/12
Plum, prune | 2.0 | 7/31/12
Sheep, fat | 13.0 | 7/31/16
Sheep, liver | 5.0 | 7/31/16
Sheep, meat | 2.0 | 7/31/16
Sheep, meat byproducts, except liver | 1.0 | 7/31/16
Squash, summer | 1.0 | 7/31/12
Strawberry | 2.0 | 7/31/16
Sweet potato, roots | 0.15 | 7/31/12
Walnut | 0.2 | 7/31/12
Watermelon | 1.0 | 7/31/12

* * * * *

(c) Tolerances with regional registrations. (1) Tolerances with regional registration, as defined in § 180.1(l), are established for residues of the insecticide endosulfan, including its metabolites and degradates, in or on the commodities in the table in this paragraph, when endosulfan is used in the state of Florida. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Apple | 1.0 | 12/31/14
Apple, wet pomace | 5.0 | 12/31/14
Blueberry | 0.3 | 12/31/14
Corn, sweet, forage | 12.0 | 12/31/14
Corn, sweet, kernel plus cob with husks removed | 0.2 | 12/31/14
Corn, sweet, stover | 14.0 | 12/31/14
Pepper | 2.0 | 12/31/14
Potato | 0.2 | 12/31/14
Pumpkin | 1.0 | 12/31/14
Squash, winter | 1.0 | 12/31/14
Tomato | 1.0 | 12/31/14

(2) Tolerances with regional registration, as defined in § 180.1(l), are established for residues of the insecticide endosulfan, including its metabolites and degradates, in or on the commodities in the table in this paragraph, when endosulfan is used in the United States (except Florida). Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Apple | 1.0 | 7/31/15
Apple, wet pomace | 5.0 | 7/31/15
Blueberry | 0.3 | 7/31/15
Corn, sweet, forage | 12.0 | 7/31/15
Corn, sweet, kernel plus cob with husks removed | 0.2 | 7/31/15
Corn, sweet, stover | 14.0 | 7/31/15
Pepper | 2.0 | 7/31/15
Potato | 0.2 | 7/31/15
Pumpkin | 1.0 | 7/31/15
Squash, winter | 1.0 | 7/31/15
Tomato | 1.0 | 7/31/15

* * * * *

5. Section 180.220 is amended by revising the table in paragraph (a) to read as follows:

§ 180.220 Atrazine; tolerances for residues.

(a) * * *

Commodity | Parts per million
Cattle, fat | 0.02
Cattle, meat | 0.02
Cattle, meat byproducts | 0.02
Corn, field, forage | 1.5
Corn, field, grain | 0.20
Corn, field, stover | 0.5
Corn, pop, forage | 1.5
Corn, pop, grain | 0.20
Corn, pop, stover | 0.5
Corn, sweet, forage | 15
Corn, sweet, kernel plus cob with husks removed | 0.20
Corn, sweet, stover | 2.0
Goat, fat | 0.02
Goat, meat | 0.02
Goat, meat byproducts | 0.02
Grass, forage | 4.0
Grass, hay | 4.0
Guava | 0.05
Horse, fat | 0.02
Horse, meat | 0.02
Horse, meat byproducts | 0.02
Milk | 0.02
Nut, macadamia | 0.20
Sheep, fat | 0.02
Sheep, meat | 0.02
Sheep, meat byproducts | 0.02
Sorghum, forage, forage | 0.25
Sorghum, grain, forage | 0.25
Sorghum, grain, grain | 0.20
Sorghum, grain, stover | 0.50
Sugarcane, cane | 0.20
Wheat, forage | 1.5
Wheat, grain | 0.10
Wheat, hay | 5.0
Wheat, straw | 0.50

* * * * *

6. Section 180.257 is amended by revising paragraph (a) to read to as follows:

§ 180.257 Chloroneb; tolerances for residues.

(a) General. Tolerances are established for residues of the fungicide chloroneb, including its metabolites and degradates, in or on the commodities in the table in this paragraph. Compliance with the tolerance levels specified in this paragraph is to be determined by measuring only the sum of chloroneb, 1,4-dichloro-2,5-dimethoxybenzene, and its metabolite 2,5-dichloro-4-methoxyphenol (free and conjugated), calculated as the stoichiometric equivalent of chloroneb, in or on the commodity.

Commodity | Parts per million | Expiration/ revocation date
Bean, dry, seed | 0.2 | 4/16/12
Bean, succulent | 0.2 | 4/16/12
Beet, sugar, roots | 0.2 | 4/16/12
Beet, sugar, tops | 0.2 | 4/16/12
Cowpea, forage | 2.0 | 4/16/12
Cowpea, hay | 2.0 | 4/16/12
Cattle, fat | 0.2 | 4/16/12
Cattle, meat | 0.2 | 4/16/12
Cattle, meat byproducts | 0.2 | 4/16/12
Cotton, gin byproducts | 1.0 | 4/16/12
Cotton, undelinted seed | 0.2 | 4/16/12
Goat, fat | 0.2 | 4/16/12
Goat, meat | 0.2 | 4/16/12
Goat, meat byproducts | 0.2 | 4/16/12
Hog, fat | 0.2 | 4/16/12
Hog, meat | 0.2 | 4/16/12
Hog, meat byproducts | 0.2 | 4/16/12
Horse, fat | 0.2 | 4/16/12
Horse, meat | 0.2 | 4/16/12
Horse, meat byproducts | 0.2 | 4/16/12
Milk | 0.05 | 4/16/12
Sheep, fat | 0.2 | 4/16/12
Sheep, meat | 0.2 | 4/16/12
Sheep, meat byproducts | 0.2 | 4/16/12
Soybean, forage | 2.0 | 4/16/12
Soybean, hay | 2.0 | 4/16/12
Soybean, seed | 0.2 | 4/16/12

* * * * *

7. Section 180.298 is amended by revising paragraphs (a) and (c) to read as follows:

§ 180.298 Methidathion; tolerances for residues.

(a) General. Tolerances are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

Commodity | Parts per million | Expiration/ revocation date
Almond, hulls | 6.0 | 12/31/16
Artichoke, globe | 0.05 | 12/31/16
Citrus, oil | 420.0 | 12/31/16
Cotton, undelinted seed | 0.2 | 12/31/16
Fruit, citrus, group 10, except tangerine | 4.0 | 12/31/16
Fruit, pome, group 11 | 0.05 | 12/31/16
Fruit, stone, group 12 | 0.05 | 12/31/16
Mango | 0.05 | 12/31/16
Nut, tree, group 14 | 0.05 | 12/31/16
Olive | 0.05 | 12/31/16
Safflower, seed | 0.5 | 12/31/16
Sorghum, forage, forage | 2.0 | 12/31/16
Sorghum, grain, forage | 2.0 | 12/31/16
Sorghum, grain, grain | 0.2 | 12/31/16
Sorghum, grain, stover | 2.0 | 12/31/16
Sunflower, seed | 0.5 | 12/31/16
Tangerine | 6.0 | 12/31/16

* * * * *

(c) Tolerances with regional registrations. Tolerances with regional registration, as defined in § 180.1(l), are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

Commodity | Parts per million | Expiration/ revocation date
Kiwifruit | 0.1 | 12/31/16
Longan | 0.1 | 12/31/16
Starfruit | 0.1 | 12/31/16
Sugar apple | 0.2 | 12/31/16

* * * * *

8. Section 180.319 is revised to read as follows:

§ 180.319 Interim tolerances.

(a) General. While petitions for tolerances for negligible residues are pending and until action is completed on these petitions, interim tolerances are established for residues of the listed pesticide chemicals in or on the following raw agricultural commodities:

Substances | Uses | Tolerance in parts per million | Raw agricultural commodity | Expiration/revocation date
Coordination product of zinc ion and maneb | Fungicide | 1.0 (Calculated as zinc ethylene-bisdithio-carbamate) | Potato | None.
Endothall (7-oxabicyclo-(2,2,1) heptane 2,3-dicarboxylic acid | Herbicide | 0.2 | Beet, sugar | None.
Isopropyl carbanilate (IPC) | Herbicide | 5.0 | Alfalfa, hay; clover, hay; and grass, hay | None.
|  | 2.0 | Alfalfa, forage; clover, forage; and grass, forage | None.
|  | 0.1 | Flax, seed; lentil; lettuce, head; lettuce, leaf; pea; safflower, seed; spinach; beet, sugar, roots; and beet, sugar, tops | None.
|  | 0.5 | Egg; cattle, fat; cattle, meat; cattle, meat byproducts; goat, fat; goat, meat; goat, meat byproducts; hog, fat; hog, meat; hog, meat byproducts; horse, fat; horse, meat; horse, meat byproducts; milk; sheep, fat; sheep, meat; sheep, meat byproducts; poultry, fat; poultry, meat; and poultry, meat byproducts | None.
Methyl parathion | Herbicide | 0.5 | Rye | 12/31/13.

(b) Section 18 emergency exemptions. [Reserved]

(c) Tolerances with regional registrations. [Reserved]

(d) Indirect or inadvertent residues. [Reserved]

§ 180.342 [Amended]

9. Section 180.342 is amended by removing the entry for “lettuce” from table in paragraph (a)(1).

10. Section 180.497 is revised to read as follows:

§ 180.497 Clofencet; tolerances for residues.

(a) General. Tolerances are established for residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity:

Commodity | Parts per million | Expiration/ revocation date
Cattle, fat | 0.04 | 7/14/12
Cattle, kidney | 10.0 | 7/14/12
Cattle, meat | 0.15 | 7/14/12
Cattle, meat byproducts, except kidney | 0.5 | 7/14/12
Egg | 1.0 | 7/14/12
Goat, fat | 0.04 | 7/14/12
Goat, kidney | 10.0 | 7/14/12
Goat, meat | 0.15 | 7/14/12
Goat, meat byproducts, except kidney | 0.5 | 7/14/12
Hog, fat | 0.04 | 7/14/12
Hog, kidney | 10.0 | 7/14/12
Hog, meat | 0.15 | 7/14/12
Hog, meat byproducts, except kidney | 0.5 | 7/14/12
Horse, fat | 0.04 | 7/14/12
Horse, kidney | 10.0 | 7/14/12
Horse, meat | 0.15 | 7/14/12
Horse, meat byproducts, except kidney | 0.5 | 7/14/12
Milk | 0.02 | 7/14/12
Poultry, fat | 0.04 | 7/14/12
Poultry, meat | 0.15 | 7/14/12
Poultry, meat byproducts | 0.20 | 7/14/12
Sheep, fat | 0.04 | 7/14/12
Sheep, kidney | 10.0 | 7/14/12
Sheep, meat | 0.15 | 7/14/12
Sheep, meat byproducts, except kidney | 0.5 | 7/14/12
Wheat, forage | 10.0 | 7/14/12
Wheat, grain | 250.0 | 7/14/12
Wheat, hay | 40.0 | 7/14/12
Wheat, straw | 50.0 | 7/14/12

(b) Section 18 emergency exemptions. [Reserved]

(c) Tolerances with regional registrations. [Reserved]

(d) Indirect or inadvertent residues. Tolerances are established for indirect or inadvertent residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity when present therein as a result of the application of clofencet to the growing crops in paragraph (a) of this section.

Commodity | Parts per million | Expiration/ revocation date
Grain, cereal, forage, fodder and straw, group 16, except rice, sweet corn, wheat, and wild rice; forage | 4.0 | 7/14/12
Grain, cereal, forage, fodder and straw, group 16, except rice, sweet corn, wheat, and wild rice; hay | 15.0 | 7/14/12
Grain, cereal, forage, fodder and straw, group 16, except rice, sweet corn, wheat, and wild rice; stover | 1.0 | 7/14/12
Grain, cereal, forage, fodder and straw, group 16, except rice, sweet corn, wheat, and wild rice; straw | 4.0 | 7/14/12
Grain, cereal group 15, except rice, sweet corn, wheat, and wild rice | 20.0 | 7/14/12
Soybean | 30.0 | 7/14/12
Soybean, forage | 10.0 | 7/14/12
Soybean, hay | 10.0 | 7/14/12

§ 180.558 [Removed]

11. Section 180.558 is removed.

[FR Doc. 2011-10553 Filed 5-3-11; 8:45 am]

BILLING CODE 6560-50-P